FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

B&C Luxury Auto Ltd. (NVO), 180 Poinier Street, Newark, NJ 07114, Officer: Sergiu Bejenari, President (QI), Application Type: New NVO License.

Concept Cargo Freight & Logistics Inc (NVO), 10925 NW 27th Street, Suite 201H, Miami, FL 33172, Officers: Milton A. Rocha, Director (QI), Tania M. Reis, Director, Application Type: Name Change to Concept Cargo Freight & Logistics Inc dba Serpa Group & QI Change.

FH Interamerica, LLC (NVO & OFF), 4430 Trade Center Blvd., Laredo, TX 78045, Officers: Francisco J. Fernandez Morelos-Zaragoza, Secretary (QI), Francisco J. Fernandez Hinojosa, President, Application Type: New NVO & OFF License.

International Logistics USA LLC (NVO & OFF), 8225 NW 80th Street, Miami, FL 33166, Officers: Graciela Crespo, Secretary (QI), Ignacio Diaz Mantel, President, Application Type: New NVO & OFF License.

Morrison Express Corporation (U.S.A.) (NVO & OFF), 2000 Hughes Way, El Segundo, CA 90245, Officers: Neungho Shin, Regional Operations Director (QI), Danny Chiu, Chairman, Application Type: QI Change.

NEC Logistics America, Inc. (NVO & OFF), 18615 Ferris Place, Rancho Dominguez, CA 90220, Officers: Takahashi Kazuhiko, President, Tochigi Nobuko, Assistant Secretary, Application Type: Name Change to Nippon Express NEC Logistics America, Inc.

By the Commission.
Dated: February 24, 2014.
Karen V. Gregory,
Secretary.

[FR Doc. 2014-04803 Filed 3-4-14; 8:45 am]

BILLING CODE 6730-01-P